DEPARTMENT OF THE INTERIOR

Bureau of Land Management

[LLES00000.L51100000.GF0000.LVEMM19M2070.19X]

Notice of Intent To Prepare an Environmental Impact Statement for the Twin Metals Project in the Superior National Forest, Lake and St. Louis Counties, Minnesota

AGENCY: Bureau of Land Management, Interior.

ACTION: Notice of intent.

SUMMARY: In compliance with the National Environmental Policy Act of 1969, as amended (NEPA), and the Federal Land Policy and Management Act of 1976 (FLPMA), as amended, the Bureau of Land Management (BLM) Northeastern States District, Milwaukee, Wisconsin, intends to prepare an Environmental Impact Statement (EIS) to analyze the potential impacts of issuing a proposed new preference right lease (MNES 57965) and approving a Mine Plan of Operation in the Superior National Forest in Lake and St. Louis Counties, Minnesota. The approval of a Mine Plan of Operation allows the lessee to access, and once other necessary permits are obtained, to mine federal minerals. The BLM will conduct a public scoping process, including public meetings. During this time, the public will be invited to submit comments.

DATES: The BLM will announce the dates of public scoping, including dates and locations of public meetings and the ways in which people may submit scoping comments, on its e-Planning website. The BLM will notify the public of scoping meetings at least 15 days prior to the event. Meeting dates, venues, and times will be announced by a news release to the media and postings on the project website.

ADDRESSES: The page that is dedicated to this project and its EIS is located at https://eplanning.blm.gov/eplanning-ui/project/1503233/510.

FOR FURTHER INFORMATION CONTACT: Derek Strohl, Planning and Environmental Coordinator, telephone: (414) 297-4416; address: 626 E Wisconsin Ave., Milwaukee, WI 43202; email: BLM_ES_TMM_comments@blm.gov. Contact Mr. Strohl if you wish to add your name to our project notification list. Persons who use a telecommunications device for the deaf (TDD) may call the Federal Information Relay Service (FIRS) at 1-800-877-8339 to contact the above individual during normal business hours. The FIRS is available 24 hours per day, 7 days per week, to leave a message or question with the above individual. You will receive a reply during normal business hours.

SUPPLEMENTARY INFORMATION: Under 43 CFR 3592.1, the BLM must consult with other agencies involved when approving a Mine Plan of Operation. In addition, the State of Minnesota would need to issue a number of permits before mining activity could begin. The Minnesota Department of Natural Resources will serve as the responsible governmental unit for the preparation of a separate, state-level EIS. The BLM and the Minnesota Department of Natural Resources expect to coordinate their efforts on their respective EISs as appropriate, including during public scoping periods.

The Forest Service is serving as a cooperating agency in the preparation of the EIS. The Forest Service decisions to be made are (1) whether to consent to the leasing of certain National Forest System lands requested in the preference right lease application (PRLA, MNES 57965) and, if consent is granted, whether lease stipulations are necessary for the protection of surface resources; (2) whether to approve the Mine Plan of Operation pursuant to Section 14a of TMM's existing leases (MNES 1352 and MNES 1353); (3) whether to issue a Special Use Permit to allow the portion of the project that is on off-lease National Forest System lands; and (4) whether to approve a Forest Plan amendment, if analysis leads the Forest Service to conclude that an amendment is necessary and appropriate to complete the Action. This notice does not commit the Forest Service to amending the Forest Plan. However, scoping comments can help to inform the Forest Service's decision as to the need for a Forest Plan amendment.

In the event that the Forest Service determines that it intends to amend the Forest Plan, the public is hereby notified that the substantive requirements of the 2012 Planning Rule (36 CFR part 219) likely to be directly related to the Forest Plan amendment are 36 CFR 219.8 (b)(1), (2), and (3) regarding social and economic sustainability, 36 CFR 219.10(a)(1), (2), (3), (4), (6), (7), and (9), regarding integrated resource management for multiple use, 36 CFR 219.10 (b)(1)(vi), regarding management of designated areas, and 36 CFR 219.11(c), regarding timber requirements based on the National Forest Management Act.

The proposed action is to issue a preference right lease and approve a Mine Plan of Operation for the mining of federal hard rock minerals in the Superior National Forest. The proposed activities would occur approximately 10 miles southeast of Ely, Minnesota, South of State Highway 1, in an area southeast of the South Kawishiwi River. The proposed Mine Plan of Operation details the proposed exploration, prospecting, testing, development and mining operations to be conducted to access federal minerals. Additional approvals by the State of Minnesota are required to conduct any mining. Mining would include critical minerals such as copper, nickel, cobalt, precious and platinum-group metals. The total surface footprint for mining is estimated at 1,156 acres, 400 acres of which is federal land managed by the U.S. Department of Agriculture, Forest Service. The surface-disturbing components include a processing facility, a tailings management site, three ventilation shafts, a power line corridor, access roads, and a water intake corridor.

The proposed Mine Plan of Operation describes the lifecycle of the mine. Construction of the mine would take two and a half years. After construction, the mine would operate for 25 years. Interim reclamation would begin on the dry stack facility as portions of it are completed, and final reclamation would follow the end of the 25-year period of mine operation.

The Mine Plan of Operation estimates that approximately 163 million tons of ore would be removed. Mining and crushing would occur 24 hours per day, 7 days per week. Ore would be crushed underground and processed in the plant to recover copper, nickel, cobalt, gold, silver, platinum, and palladium. Tailings generated by this process would be dewatered and placed either in the tailings management site, also known as the dry stack facility, or mixed with a binder and used to backfill mined-out stopes. The current Mine Plan of Operation is available on the BLM's e-planning website at https://eplanning.blm.gov/eplanning-ui/project/1503233/510.

The public will be invited to submit comments during a scoping period. Prior to the submission of any comments, if you provide your address, phone number, email address, or other personal identifying information in your comment, you should be aware that your entire comment—including your personal identifying information—may be made publicly available at any time. While you can ask us in your comment to withhold your personal identifying information from public review, we cannot guarantee that we will be able to do so.

The purpose of the public scoping process will be to identify relevant issues that will influence the scope of the environmental analysis, including alternatives, and guide the process for developing the federal EIS. The BLM has identified the following preliminary issues associated with the project: (1) The potential for acid-rock drainage or other water quality impacts from ore and tailings; (2) regional socioeconomics, including the generation of high wage-paying jobs and the potential for impacts to water resources to degrade Ely's tourism-based economy; and (3) the potential impacts to recreation and wilderness, including the Boundary Waters Canoe Area Wilderness (BWCAW), approximately five miles from the proposed mine site. Scoping will also be used to determine if it is necessary to amend the Forest Plan to accommodate the Proposed Action.

The BLM will coordinate the scoping process as provided in 36 CFR 800.2(d)(3) (54 U.S.C. 306108) to help fulfill the National Historic Preservation Act (NHPA, as amended) review process. The information about historic and cultural resources within the area potentially affected by the proposed project will assist the BLM in identifying and evaluating impacts to such resources in the context of both NEPA and the NHPA.

The BLM will consult with Native American tribes on a government-to-government basis in accordance with Executive Order 13175 and other policies. Tribal concerns, including impacts on Indian trust assets and potential impacts to cultural resources, will be given due consideration. Federal, state, and local agencies, along with tribes and other stakeholders who may be interested in or affected by the proposed project that the BLM is evaluating, will be invited to participate in the scoping process. Six federal and tribal agencies have agreed to participate in this process as cooperating agencies, as follows:

• U.S. Department of Agriculture, Forest Service

• U.S. Army Corps of Engineers

• U.S. Environmental Protection Agency

• Bois Forte Band of Chippewa

• Fond du Lac Band of Lake Superior Chippewa

• Grand Portage Band of Lake Superior Chippewa

Authority: 40 CFR 1501.7.

Gary Torres,
Acting State Director, BLM-Eastern States.

[FR Doc. 2020-14051 Filed 6-29-20; 8:45 am]

BILLING CODE 4310-GJ-P